DEPARTMENT OF COMMERCE

National Oceanic and Atmospheric Administration

RIN 0648-XC685

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Committee to consider actions affecting New England fisheries in the exclusive economic zone (EEZ). Recommendations from this group will be brought to the full Council for formal consideration and action, if appropriate.

DATES: This meeting will be held on Tuesday, June 4, 2013 at 9:30 a.m.

ADDRESSES: Meeting address: The meeting will be held at the Holiday Inn & Suites, One Newbury Street, Peabody, MA 01960; telephone: (978) 535-4600; fax: (978) 535-8283.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Herring Committee will discuss development of Framework 3 to the Atlantic Herring Fishery Management Plan, which will consider options to establish river herring catch caps in the Atlantic herring fishery and review available data and discuss options for establishing and monitoring river herring catch caps. The Committee will also discuss overlap between the herring and mackerel fisheries and related issues as well as develop Committee recommendations for Council consideration and address other issues related to the development of Framework 3. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 10, 2013.
Tracey L. Thompson,
Acting Deputy Director, Office of Sustainable Fisheries, National Marine Fisheries Service.

[FR Doc. 2013-11529 Filed 5-14-13; 8:45 am]

BILLING CODE 3510-22-P